DEPARTMENT OF DEFENSE

Department of the Army

Intent To Grant an Exclusive License to Foster Miller, Inc.

AGENCY: Department of the Army, DoD.

ACTION: Notice.

SUMMARY: In accordance with 35 U.S.C. 209(e) and 37 CFR 404.7(a)(l)(i), announcement is made of the intent to grant an exclusive, royalty-bearing, revocable license to U.S. patent application number 09,715,496 filed November 17, 2000 entitled “Wearable Transmission Device” to Foster Miller, Inc. with its principal place of business at 350 Second Avenue, Waltham, MA 02451.

DATES: File written objections by September 10, 2003.

FOR FURTHER INFORMATION CONTACT: Mr. Robert Rosenkrans at U.S. Army Soldier and Biological Chemical Command, Kansas Street, Natick, MA 01760, Phone; (508) 233-4928 or e-mail: Robert.Rosenkrans@natick.army.mil.

SUPPLEMENTARY INFORMATION: The prospective partially exclusive licenses will be royalty bearing and will comply with the terms and conditions of 35 U.S.C. 209 and 37 CFR 404.7. The prospective exclusive licenses may be granted, unless within fifteen (15) days from the date of this published notice, Soldier and Biological Chemical Command receives written evidence and argument to establish that the grant of the license would not be consistent with the requirements of 35 U.S.C. 209 and 37 CFR 404.7.

Luz D. Ortiz,
Army Federal Register Liaison Officer.

[FR Doc. 03-21791 Filed 8-25-03; 8:45 am]

BILLING CODE 3710-08-M